DEPARTMENT OF ENERGY

Federal Energy Regulatory Commission

[Project No. 4202-024]

KEI (Maine) Power Management (II) LLC; Notice of Conference Call

a. Date and Time of Meeting: December 18, 2020 at 1:00 p.m. Eastern Standard Time.

b. FERC Contact: Steve Kartalia at stephen.kartalia@ferc.gov or (202) 502-6131.

c. Purpose of Meeting: On October 15, 2020, the National Marine Fisheries Service (NMFS) requested that, pursuant to section 16.8(b)(6) of the Commission's regulations, the Director of the Office of Energy Projects resolve a dispute with KEI (Maine) Power Management (II) LLC (KEI Power), regarding two studies NMFS requested during the first stage of consultation for the proposed relicensing of the Lowell Tannery Hydroelectric Project No. 4202 (project). NMFS's dispute involves two studies: an upstream fish passage effectiveness study, and a downstream fish passage effectiveness and survival study. Commission staff need additional information to provide a recommendation on the dispute involving upstream fish passage.

Commission staff is meeting with KEI Power, NMFS, the U.S. Fish and Wildlife Service, and other interested participants, via conference call, to discuss the project's upstream fish passage facility, project operation, and existing information about the project's effects on upstream fish passage.

d. Proposed Agenda: (1) Introduction of participants; (2) FERC staff explain purpose of meeting and gather information about upstream passage at the project; (3) Participants discuss upstream passage at the project; and (4) Meeting conclusion.

e. A summary of the meeting will be prepared and filed in the Commission's public file for the project.

f. All local, state, and federal agencies, Indian tribes, and other interested parties are invited to participate by phone. If interested, please contact Steve Kartalia at

stephen.kartalia@ferc.gov or (202) 502-6131, by December 16, 2020, to receive the conference call number and access code.

Dated: December 8, 2020.
Kimberly D. Bose,
Secretary.

[FR Doc. 2020-27436 Filed 12-11-20; 8:45 am]

BILLING CODE 6717-01-P